DEPARTMENT OF TRANSPORTATION

Federal Highway Administration

Notice of Final Federal Agency Actions on Proposed Highway in California; Notice of Statute of Limitations on Claims

AGENCY: Federal Highway Administration (FHWA), DOT.

ACTION: Notice of Limitation on Claims for Judicial Review of Actions by the California Department of Transportation (Caltrans), pursuant to 23 U.S.C. 327 and Other Federal Agencies.

SUMMARY: The FHWA, on behalf of Caltrans, is issuing this notice to announce actions taken by Caltrans, and other Federal Agencies that are final within the meaning of 23 U.S.C. 139(l)(1). The actions relate to a proposed highway project, Interstate 5 (I-5) High Occupancy Vehicle (HOV)/Truck Lanes from the I-5/State Route 14 (SR-14) interchange south of the City of Santa Clarita, and ending at Parker Road in the community of Castaic, in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 10, 2010. If the Federal law that authorizes judicial review of a claim provides a time period of less than 180 days for filing such claim, then that shorter time period still applies.

FOR FURTHER INFORMATION CONTACT: Carlos Montez, Branch Chief, California Department of Transportation District 7, Division of Environmental Planning, 100 South Main Street, Los Angeles, California 90012, during normal business hours from 9 a.m. to 5 p.m., telephone (213) 897-9116, e-mail carlos_montez@dot.ca.gov.

SUPPLEMENTARY INFORMATION: Effective July 1, 2007, the Federal Highway Administration (FHWA) assigned, and the California Department of Transportation (Caltrans) assumed environmental responsibilities for this project pursuant to 23 U.S.C. 327. Notice is hereby given that Caltrans, and certain other Federal Agencies have taken final agency actions subject to 23 U.S.C. 139(l)(1) by issuing licenses, permits, and approvals for the following highway project in the State of California:

The addition of one HOV lane in each direction on I-5 from the SR-14 interchange at the southern portion of the project limit, and north to Parker Road (a distance of approximately 13.6 miles) and the addition of truck lanes from SR-14 interchange to Calgrove Boulevard (northbound) and from Pico Canyon Road/Lyons Avenue to the SR-14 interchange (southbound). The purpose of the project is to reduce delays to vehicles caused by slower-moving trucks and to improve operational and safety design features to facilitate the movement of people, freight and goods on the project segment. The purpose of the project also is to reduce existing and forecast traffic congestion on the project segment to accommodate planned growth within the study area. The actions by the Federal agencies, and the laws under which such actions were taken, are described in the Environmental Assessment/Finding of No Significant Impact (EA/FONSI) for the project, approved on September 1, 2009, and in other documents in the Caltrans project records. The EA/FONSI and other project records are available by contacting Caltrans at the address provided above. The Caltrans EA/FONSI can be viewed and downloaded from the project Web site at http://www.dot.ca.gov/dist07/resources/envdocs/docs/, or viewed at public libraries in the project area.

This notice applies to all Federal agency decisions as of the issuance date of this notice and all laws under which such actions were taken, including but not limited to:

1. General: National Environmental Policy Act (NEPA) [42 U.S.C. [4321-4351].

2. Safe, Accountable, Flexible, Efficient Transportation Equity Act: A Legacy for Users (SAFETEA-LU).

3. Clean Air Act [42 U.S.C. 7401-7671(q)].

4. Migratory Bird Treaty Act [16 U.S.C. 703-712].

5. Historic and Cultural Resources: Section 106 of the National Historic Preservation Act of 1966, as amended [16 U.S.C. 470(f) et seq.].

6. Clean Water Act (section 401) [33 U.S.C. 1251-1377].

7. Federal Endangered Species Act of 1973 (16 U.S.C. 1531-1543).

8. Executive Order 11990, Protection of Wetlands.

9. Executive Order 11988, Floodplain Management.

10. Executive Order 12898—Environmental Justice.

11. Department of Transportation Act of 1966, Section 4(f) [49 U.S.C. 303].

12. E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: November 3, 2009.
Cindy Vigue,
Director, State Programs, Federal Highway Administration, Sacramento, California.

[FR Doc. E9-27039 Filed 11-9-09; 8:45 am]

BILLING CODE 4910-RY-P